ENVIRONMENTAL PROTECTION AGENCY

[EPA-HQ-OPP-2010-0796; FRL-8847-6]

Biopesticides Registration Review Final Decisions; Notice of Availability

AGENCY: Environmental Protection Agency (EPA).

ACTION: Notice.

SUMMARY: This notice announces the availability of EPA's final registration review decisions for the pesticides listed in the table in Unit II.A. Registration review is EPA's periodic review of pesticide registrations to ensure that each pesticide continues to satisfy the statutory standard for registration, that is, that the pesticide can perform its intended function without causing unreasonable adverse effects on human health or the environment. Through this program, EPA is ensuring that each pesticide's registration is based on current scientific and other knowledge, including its effects on human health and the environment.

FOR FURTHER INFORMATION CONTACT: For pesticide-specific information, contact: The person listed for the specific pesticide of interest provided in the table in Unit II.A., Office of Pesticide Programs, Environmental Protection Agency, 1200 Pennsylvania Ave., NW., Washington, DC 20460-0001.

For general information on the registration review program, contact: Kevin Costello, Pesticide Re-evaluation Division (7508P), Office of Pesticide Programs, Environmental Protection Agency, 1200 Pennsylvania Ave., NW., Washington, DC 20460-0001; telephone number: (703) 305-5026; fax number: (703) 308-8090; e-mail address: costello.kevin@epa.gov.

SUPPLEMENTARY INFORMATION:

I. General Information

A. Does this action apply to me?

This action is directed to the public in general, and may be of interest to a wide range of stakeholders including environmental, human health, farm worker, and agricultural advocates; the chemical industry; pesticide users; and members of the public interested in the sale, distribution, or use of pesticides. Since others also may be interested, the Agency has not attempted to describe all the specific entities that may be affected by this action. If you have any questions regarding the applicability of this action to a particular entity, consult the person listed for the specific pesticide of interest provided in the table in Unit II.A.

B. How can I get copies of this document and other related information?

EPA has established a docket for this action under the docket identification (ID) number for the specific pesticide of interest provided in the table in Unit II.A. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. Background

A. What action is the Agency taking?

Pursuant to 40 CFR 155.58(c), this notice announces the availability of EPA's final registration review decisions for the pesticides shown in the following table.

Capsaicin is a naturally occurring polymer that comprises the principal active element of chili peppers (genus Capsaicum). Capsaicin is used as a fungicide, insect repellent and vertebrate animal repellent. Use sites are indoor and outdoor terrestrial uses. Applications are residential, commercial and when applied as a defensive repellent, circumstantial.

Garlic oil is the volatile oil extracted from the bulb of the garlic plant or the entire plant. Garlic oil is used as a repellent for the control of insects, mites, birds, deer, rabbits and squirrels and is registered for use on terrestrial food and feed such as vegetables, fruits, nuts, and grains. Garlic oil is also registered for use on terrestrial non-food crops such as ornamental plants and shrubs.

Registration review case name and No. | Pesticide docket ID No. | Chemical review manager, telephone No., e-mail address
Capsaicin (4018) | EPA-HQ-OPP-2009-0121 | Chris Pfeifer 703-308-0031 pfeifer.chris@epa.gov
Garlic Oil (4007) | EPA-HQ-OPP-2009-0113 | Cheryl Greene 703-308-0352 greene.cheryl@epa.gov

Pursuant to 40 CFR 155.57, a registration review decision is the Agency's determination whether a pesticide meets, or does not meet, the standard for registration in FIFRA. EPA has considered capsaicin and garlic oil in light of the FIFRA standard for registration. The pesticides listed above Final Decision documents in the dockets listed above describe the Agency's rationale for issuing a registration review final decision for these pesticides.

In addition to the final registration review decision document, the registration review docket for capsaicin and garlic oil also includes other relevant documents related to the registration review of this case. The proposed registration review decision was posted to the docket and the public was invited to submit any comments or new information. During the 60-day comment period, no public comments were received.

Pursuant to 40 CFR 155.58(c), the registration review case docket for capsaicin and garlic oil will remain open until all actions required in the final decision have been completed.

Background on the registration review program is provided at: http://www.epa.gov/oppsrrd1/registration_review. Links to earlier documents related to the registration review of this pesticide are provided at: http://www.epa.gov/oppsrrd1/registration_review/reg_review_status.htm.

B. What is the Agency's authority for taking this action?

Section 3(g) of FIFRA and 40 CFR part 155, subpart C, provide authority for this action.

List of Subjects

Environmental protection, Registration review, Pesticides and pests, Capsaicin and Garlic Oil.

Dated: September 22, 2010.
W. Michael McDavit,
Acting Director, Biopesticide and Pollution Prevention Division, Office of Pesticide Programs.

[FR Doc. 2010-24431 Filed 9-28-10; 8:45 am]

BILLING CODE 6560-50-P